DEPARTMENT OF TRANSPORTATION

Coast Guard

33 CFR Part 117

[CGD07-02-125]

Drawbridge Operation Regulations; Memorial Drawbridge, Atlantic Intracoastal Waterway, Daytona Beach, Volusia County, FL

AGENCY: Coast Guard, DOT.

ACTION: Notice of temporary deviation from regulations.

SUMMARY: The Commander, Seventh Coast Guard District, has approved a temporary deviation from the regulations governing the operation of the Memorial Drawbridge, across the Atlantic Intracoastal Waterway, mile 830.6, Daytona Beach, Florida. This deviation allows the bridge to only open a single leaf from 6 a.m. until 6 p.m. from November 2, 2002 until December 31, 2002. A double leaf opening will be available with 30-minutes advance notice to the bridge tender. From 6:01 p.m. until 5:59 a.m. the bridge will remain in the open to navigation position. This temporary deviation is required to allow the bridge owner to safely complete emergency repairs to the bridge.

DATES: This deviation is effective from 6 a.m. on November 2, 2002 until 6 p.m. on December 31, 2002.

ADDRESSES: Material received from the public, as well as documents indicated in this preamble as being available in the docket [CGD07-02-125] will become part of this docket and will be available for inspection or copying at Commander (obr), Seventh Coast Guard District, 909 S.E. 1st Avenue, Room 432, Miami, FL 33131 between 7:30 a.m. and 4 p.m., Monday through Friday, except Federal holidays.

FOR FURTHER INFORMATION CONTACT: Mr. Barry Dragon, Project Officer, Seventh Coast Guard District, Bridge at (305) 415-6743.

SUPPLEMENTARY INFORMATION: The existing regulations for the Memorial Drawbridge in 33 CFR 117.261(g), require the drawbridge to open on signal; except that from 7:45 a.m. to 8:45 a.m. and from 4:45 p.m. to 5:45 p.m., Monday through Saturday except Federal holidays, the draw need open only at 8:15 a.m. and 5:15 p.m.

Volusia county officials notified the Coast Guard on October 1, 2002, that they needed to operate the bridge on a single leaf schedule to effect emergency repairs. The drawbridge will be closed to vehicular traffic during the entire period of repair. The Commander, Seventh Coast Guard District has granted a temporary deviation from the operating requirements listed in 33 CFR 117.261(g) to complete emergency repairs to the drawbridge. This deviation, the Memorial Drawbridge, mile 830.6 at Daytona, need only open a single leaf, from 6 a.m. until 6 p.m. on November 2, 2002 to December 31, 2002. A double-leaf opening is available with a 30-minute advance notice to the bridge tender.

Dated: October 16, 2002.
Greg Shapley,
Chief, Bridge Administration Branch, Seventh Coast Guard District.

[FR Doc. 02-27372 Filed 10-25-02; 8:45 am]

BILLING CODE 4910-15-U